DEPARTMENT OF ENERGY

Federal Energy Regulatory Commission

[Docket No. CP25-52-000]

Natural Gas Pipeline Company of America, LLC; Notice of Schedule for the Preparation of an Environmental Assessment for the Gulf Coast Storage Expansion Project

On January 17, 2025, Natural Gas Pipeline Company of America, LLC (Natural) filed an application in Docket No. CP25-52-000 requesting a Certificate of Public Convenience and Necessity pursuant to Section 7(c) of the Natural Gas Act to construct and operate certain natural gas pipeline facilities. The proposed project is known as the Gulf Coast Storage Expansion Project (Project) and would increase the certificated peak day withdrawal level at Natural's North Lansing Storage Field from 1,240 million cubic feet per day (MMcf/d) to 1,420 MMcf/d. The Project would allow Natural to meet growing demand for natural gas storage to meet seasonal demand requirements and create additional resiliency to withstand supply or demand disruptions.

On January 23, 2025, the Federal Energy Regulatory Commission (Commission or FERC) issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1739953064.

Schedule for Environmental Review

Issuance of EA—August 14, 2025

90-day Federal Authorization Decision Deadline ²—November 12, 2025

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

Natural proposes to convert about 10 billion cubic feet of cushion gas to working gas at its North Lansing Storage Field by installing one new 12,000 horsepower electric-driven compressor unit at its Compressor Station 388; approximately 5.6 miles of 30-inch-diameter loop line; and various appurtenances, located in Harrison County, Texas. According to Natural, the Project would allow the company to meet growing demand for natural gas storage and create additional resiliency to withstand supply or demand disruptions.

Background

On February 18, 2025, the Commission issued a “Notice of Scoping Period Requesting Comments on Environmental Issues for the Proposed Gulf Coast Storage Expansion Project” (Notice of Scoping). The Notice of Scoping was sent to affected landowners; Federal, State, and local government agencies; elected officials; environmental and public interest groups; Native American tribes; other interested parties; and local libraries and newspapers. In response to the Notice of Scoping, the Commission received comments from the Teamsters National Pipeline Labor Management Cooperation Trust and the Texas Parks and Wildlife Department. The primary issues raised by the commenters are construction procedures, effects on threatened and endangered species, and impacts on the local economy. All substantive comments received will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-52), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: March 14, 2025.
Debbie-Anne A. Reese,
Secretary.

[FR Doc. 2025-04743 Filed 3-19-25; 8:45 am]

BILLING CODE 6717-01-P